INTERNATIONAL TRADE COMMISSION

[Investigation No. 332-388]

Simplification of the Harmonized Tariff Schedule of the United States

AGENCY: United States International Trade Commission.

ACTION: Revised schedule for publication of report for the subject investigation; request for submissions.

EFFECTIVE DATE: March 7, 2000.

FOR FURTHER INFORMATION CONTACT: Eugene A. Rosengarden, Director, Office of Tariff Affairs and Trade Agreements (O/TA&TA) (202-205-2592); Janis L. Summers, Attorney-Advisor (202-205-2605); or Gil Whitson, Special Assistant to the Director (202-205-2602). The O/TA&TA fax number is 202-205-2616. These officials may be reached via Internet e-mail at rosengarden@usitc.gov; jsummers@usitc.gov; or gwhitson@usitc.gov, respectively. Hearing impaired individuals are advised that information on this matter can be obtained by contacting our TDD terminal on 202-205-1810. Media representatives should contact Margaret O'Laughlin, Public Affairs Officer (202-205-1819). This notice, and other notices published pursuant to section 332(g) of the Tariff Act of 1930, can be obtained from the ITC Internet web server: http://www.usitc.gov.

SUPPLEMENTARY INFORMATION: The Commission instituted this investigation, Simplification of the Harmonized Tariff Schedule of the United States, on November 5, 1997, following receipt of a letter of request seeking the Commission's report by July 13, 2000. Subsequently, on February 25, 1998, the Commission issued a revised schedule for the subject investigation; on March 25, 1999, the Commission issued a schedule for public comment in conjunction with the investigation, with a closing date of June 30, 1999, for such submissions. That revised work schedule calls for the publication of the Commission's report in the subject investigation by February 28, 2000, following an evaluation of the comments received.

The Commission has determined that additional time should be devoted to preparing its report. Accordingly, the Commission is again revising the schedule in this investigation with respect to the publication of its final report, and announces that the report will be issued by June 30, 2000. In addition, after examining the volume and nature of the comments received, and following discussions with the Congressional committees concerned, the Commission has decided that a public hearing in the subject investigation will not be conducted, in order to allow the maximum time for work on its final report. The final report in the investigation will set forth the proposed legal provisions of a simplified tariff schedule; statistical annotations and notes would be separately considered for subsequent addition by the Committee for Statistical Annotation of Tariff Schedules (the so-called “484(f) Committee”) pursuant to section 484(f) of the Tariff Act of 1930.

In order to assist in that statistical review, the 484(f) Committee requests the submission of written comments regarding the desirability of and possible procedures for “sunsetting” 10-digit statistical annotations to the HTS, in particular with respect to an appropriate period of time (such as 5 years) after which each annotation might be reviewed and/or deleted from the schedule. Interested persons or entities are invited to file comments concerning a possible “sunset” guideline; such comments should be general in nature, rather than being focused on particular statistical categories. Written statements should be filed as quickly as possible, and follow-up statements are permitted; but all statements must be received at the Commission by the close of business on April 3, 2000, in order to be considered and made part of the record. Commercial or financial information which a submitter desires the Commission to treat as confidential must be submitted on separate sheets of paper, each marked “Confidential Business Information” at the top. All submissions requesting confidential treatment must conform with the requirements of section 201.6 of the Commission's Rules of Practice and Procedure (19 CFR 201.6). All written submissions, except for confidential business information, will be available for inspection by interested persons. All submissions should be addressed to the Office of the Secretary, United States International Trade Commission, 500 E Street SW., Washington, DC 20436. The Commission's rules do not authorize filing of submissions with the Secretary by facsimile or electronic means.

Questions regarding the investigation can be directed to the staff members listed above, and documents concerning the subject investigation have been placed on the Commission's web site for inspection and/or downloading. Printed copies of documents and submissions have been placed in the Secretary's docket section for inspection and copying.

By order of the Commission.
Issued: March 7, 2000.
Donna R. Koehnke,
Secretary.

[FR Doc. 00-6082 Filed 3-10-00; 8:45 am]

BILLING CODE 7020-02-P